DEPARTMENT OF TRANSPORTATION

Coast Guard

33 CFR Parts 151, 155, 157, and 158

46 CFR Part 172

[USCG 2000-7641]

RIN 2115-AF56

Pollution Prevention for Oceangoing Ships and Certain Vessels in Domestic Service

AGENCY: Coast Guard, DOT.

ACTION: Notice of proposed rulemaking.

SUMMARY: The Coast Guard proposes amending U.S. regulations for pollution prevention from ships. To align with international standards, we propose amending the domestic regulations concerning oily-water separators, operational discharges of oil, damage and intact stability of tank vessels, International Oil Pollution Prevention Certificates, garbage recordkeeping requirements, and placards for reception facilities. To provide consistency with industry standards and clarification in U.S. oil regulations, we propose changing oily mixture discharge shore connection requirements for certain vessels and redefining certain terms dealing with oil.

DATES: Comments and related material must reach the Docket Management Facility on or before Ocotber 10, 2000. Comments sent to the Office of Management and Budget (OMB) on collection of information must reach OMB on or before October 10, 2000.

ADDRESSES: To make sure your comments and related material are not entered more than once in the docket, please submit them by only one of the following means:

(1) By mail to the Docket Management Facility (USCG-2000-7641), U.S. Department of Transportation, room PL-401, 400 Seventh Street SW., Washington, DC 20590-0001.

(2) By hand delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

You must also mail comments on collection of information to the Office of Information and Regulatory Affairs, Office of Management and Budget, 725 17th Street NW., Washington, DC 20503, ATTN: Desk Officer, U.S. Coast Guard.

The Docket Management Facility maintains the public docket for this rulemaking. Comments and material received from the public, as well as documents mentioned in this preamble as being available in the docket, will become part of this docket and will be available for inspection or copying at room PL-401 on the Plaza level of the Nassif Building, 400 Seventh Street SW., Washington, DC, between 9 a.m. and 5 p.m., Monday through Friday, except Federal holidays. You may also find this docket on the Internet at http://dms.dot.gov.

FOR FURTHER INFORMATION CONTACT: For information concerning this proposed rule, contact Lieutenant Commander Michael Jendrossek, Vessel and Facility Operating Standards Division, 202-267-1181. For questions on viewing or submitting material to the docket, call Dorothy Beard, Chief, Dockets, Department of Transportation, telephone 202-366-9329.

SUPPLEMENTARY INFORMATION:

Request for Comments

We encourage you to participate in this rulemaking by submitting comments and related material. If you do so, please include your name and address, identify the docket number for this rulemaking (USCG-2000-7641), indicate the specific section of this document to which each comment applies, and give the reason for each comment. You may submit your comments and material by mail, hand delivery, fax, or electronic means to the Docket Management Facility at the address under ADDRESSES; but please submit your comments and material by only one means. If you submit them by mail or hand delivery, submit them in an unbound format, no larger than 8½ by 11 inches, suitable for copying and electronic filing. If you submit them by mail and would like to know they reached the Facility, please enclose a stamped, self-addressed postcard or envelope. We will consider all comments and material received during the comment period. We may change this proposed rule in view of them.

Public Meeting

We currently do not plan to hold a public meeting. But you may submit a request for one to the Docket Management Facility at the address under ADDRESSES explaining why one would be beneficial. If we determine that one would aid this rulemaking, we will announce the time and place in a later notice in the Federal Register.

Background and Purpose

This proposed rule would amend U.S. regulations for pollution prevention from oceangoing ships and certain vessels in domestic service. Most amendments are ones adopted by the Marine Environment Protection Committee (MEPC) of the International Maritime Organization (IMO) during several sessions. MEPC adopted amendments to Annex I of the International Convention for the Prevention of Pollution from Ships, 1973, as modified by the Protocol of 1978 (MARPOL 73/78) during its 32nd session (MEPC 32, March 6, 1992) and 40th session (MEPC 40, September 25, 1997). The MEPC also adopted amendments to Annex V in its 37th session (MEPC 37, September 14, 1995). Additional proposed amendments include allowing certain vessels in domestic service to use quick-connect fittings rather than international-type shore connections, and redefining for clarity certain terms dealing with oil in the domestic regulations.

Aligning Coast Guard regulations with international standards. By aligning the domestic regulations with international standards, compliant U.S. ships would encounter fewer difficulties while engaged in international trade. Under 33 U.S.C. 1902, the Coast Guard is authorized to prescribe or amend regulations necessary to implement any changes to the standards of MARPOL 73/78. Changes to MARPOL 73/78, Annex I, are described in a Federal Register notice published on November 12, 1993 (58 FR 60080). They established more stringent criteria for controlling the discharge of oil and oily water from the machinery space bilges and cargo tanks of certain vessels. Changes to MARPOL 73/78, Annex V, added Regulation 9 that requires ships to carry garbage recordkeeping books and reception facilities to post placards. Regulation 9 was effective July 1, 1998. We propose aligning the U.S. regulations with the recent amendments in MARPOL 73/78 Annex I and Annex V, Regulation 9.

Allowing certain ships in domestic service to use quick-connect fittings rather than international-type shore connections. Allowing certain ships to use quick-connect fittings compatible with domestic reception facilities for discharging oily mixtures ensures that these ships are in compliance with U.S. regulations without imposing unnecessary costs to the ship owners and operators.

During voluntary dockside examinations of uninspected towing vessels in the Coast Guard's 5th District, inspectors found that many of these vessels did not have the required shore connections. Instead, the vessels had quick-connect fittings compatible with the shoreside reception facilities used in U.S. ports. The requirement is intended to standardize the means of transferring oily wastes for ships on international routes. However, ships operating only in domestic service do not need this standardization. We propose revising 33 CFR 155.410 and 155.420 to change the requirements for shore connections on certain ships with domestic routes.

Redefining certain terms dealing with oil. Redefining the terminology dealing with oil throughout the U.S. regulations provides consistency and clarity. We would redefine or clarify terms, such as “oily mixtures,” “oil,” “oil cargo residues,” and “oil residues,” throughout 33 CFR parts 151, 155, 157, and 158. We would also remove conflicting and duplicating terms.

Discussion of Proposed Rule

The proposed amendments regarding the alignment of U.S. regulations with MARPOL 73/78 standards are discussed as follows:

1. Rate of discharge of oil into the sea. This proposed change would reduce the maximum allowable rate of discharge of oil and oily mixtures. At present, 33 CFR 157.37(a)(3) allows tank vessels of 150 gross tons and above carrying crude oil or products in bulk as cargo to discharge an oily mixture into the sea from a cargo tank, a slop tank, or the bilges of a cargo pump room if the instantaneous rate of oil discharge does not exceed 60 liters per nautical mile. However, the discharge rate under MARPOL 73/78 was reduced from 60 liters per nautical mile to 30 liters per nautical mile. To align with international standards, we propose reducing the allowable rate specified in § 157.37(a)(3) to 30 liters per nautical mile.

2. Oil content of the effluent discharged. This proposed change would reduce the allowable oil content in effluent from oil tanker bilges and other ships 400 gross tons and above. This change would affect the requirements regarding the effluent from machinery-space bilges of oil tankers (excluding effluent from cargo pump room bilges unless mixed with oil cargo residue) and from other ships of 400 gross tons and above. MARPOL 73/78 reduced the parts per million (ppm) oil content allowances from 100 ppm to 15 ppm. To meet the international standard, we propose reducing the allowable content to 15 ppm in 33 CFR 151.10(a)(5), 155.360(a), 155.370(a), and 157.39(b)(3) (redesignated as (b)(2)).

3. Means for automatically stopping a discharge. This proposed amendment would require certain ships to install a means for automatically stopping oil or oily water discharges when the oil content in the effluent exceeds the required allowance. MARPOL 73/78 requires ships of 10,000 gross tons and above to install a means of automatically stopping oily mixture discharges when the oil content in the effluent exceeds 15 ppm. This requirement also applies to ships of 400 gross tons and above that carry ballast water in their fuel oil tanks. To align with MARPOL 73/78 standards, we propose revising 33 CFR 155.370(a) to require a means of automatically stopping discharges exceeding 15 ppm for ships of 400 gross tons to less than 10,000 gross tons that carry ballast water in their fuel oil tanks and for ships of 10,000 gross tons and above.

4. Oil filtering equipment, alarms, and automatic stop requirements for ships delivered before July 6, 1993. This proposed amendment requires all ships delivered before July 6, 1993, to comply with the discharge equipment requirements for oil filtering, alarms, and automatic stops when we publish a final rule. MARPOL 73/78 did not require ships delivered before July 6, 1993, to comply until July 6, 1998, or until the date the ship was fitted with this equipment, whichever was earlier. Until that date, all oil or oily mixture discharges from machinery space bilges were prohibited, unless certain specified conditions were met. Since the international compliance date has passed, we propose revising 33 CFR 155.370(a) to require all ships to comply with the oil filtering equipment, alarms, and automatic stop requirements by the effective date of this rulemaking.

5. Term of validity for International Oil Pollution Prevention (IOPP) Certificates. This proposed change would set the maximum term of validity for IOPP Certificates at 5 years. Currently, 33 CFR 151.19(e) states that IOPP Certificates for U.S. inspected ships are valid for a maximum period of 4 years from the date of issuance. For U.S. uninspected ships, IOPP Certificates are valid for a maximum period of 5 years. The International Maritime Organization's (IMO's) Harmonized System of Surveys and Certification and MARPOL 73/78 set the term of validity for IOPP Certificates at a maximum period of 5 years. Until now, the U.S. used a 4-year maximum term of validity because it was compatible with the 2-year cycle for U.S. Certificates of Inspection (COI). On February 2, 2000 we published a final rule (65 FR 6493) introducing a five year Certificate of Inspection cycle in accordance with the Coast Guard Authorization Act of 1996. The change to a five year term of validity on IOPP certificates would reflect this new inspection cycle, help reduce the paperwork burden for vessel owners and operators, and harmonize our IOPP certificate term of validity with the rest of the world's fleet who already have 5-year certificates. To align the U.S. regulations with international standards, we propose setting the term of validity for IOPP Certificates at a maximum of 5 years for both inspected and uninspected vessels. This regulatory change would occur in 33 CFR 151.19(e).

6. Damage stability of tank vessels. This proposed amendment would incorporate new damage assumptions to consider when calculating the potential penetration to tank vessel hulls for raking damage. These new damage assumptions should help prevent loss of stability from bottom-raking damage on double-hull tank vessels. Unlike single-hull tank vessels, double-hull tank vessels have large void or ballast spaces surrounding the cargo tanks. Changing the requirement would prevent the loss of stability of double-hull tank vessels when some void spaces are flooded from long, relatively shallow extents of damage characterized by certain types of bottom-raking damage. Though the number of raking damage incidents is relatively low, the possible consequences make raking damage risks significant enough to take preventive measures.

As the U.S. representative at the 1992 IMO meeting of the Sub-Committee on Stability and Load Lines and on Fishing Vessels Safety (SLF), we supported IMO's suggested damage stability standards for double-hull tank vessels. We supported the assertion that double-hull tank vessels should be designed to sustain certain forms of raking damage and still meet the minimum damage stability requirements. Working with the U.S. tank vessel industry, we submitted several studies to IMO demonstrating the need for these proposed standards and the feasibility for new double-hull designs. As a result of these and other studies, IMO adopted these design standards enabling tank vessels to sustain a certain amount of damage without capsizing or sinking. The IMO document adopting these standards is in Resolution MEPC.52(32) adopted on March 6, 1992.

Current U.S. regulations 33 CFR 157.21 and 46 CFR 172.065 require designing all tank vessels to survive certain types of damage without capsizing or sinking. To meet MARPOL 73/78 standards, we propose requiring that oil tankers of 20,000 deadweight tons (DWT) and above be designed to survive potential raking damage caused by grounding of the ship. This change would occur in 33 CFR part 157, appendix B, and 46 CFR 172.065, table 172.065(a), and would become effective on the effective date of this rulemaking.

7. Intact stability of tankships. This proposed rule would add new regulations for design-based intact stability. The new regulations would help eliminate incidents of lolling (the uncontrolled heeling of tankships due to loss of initial intact stability) during simultaneous ballast and cargo operations by requiring tankship designs that provide adequate intact stability. We also propose excluding tank barges from the proposed intact stability requirement. Ballast tanks on tank barges are typically used as void spaces. Thus, it is highly unlikely for barges to conduct simultaneous ballast and cargo operations.

Before 1993, there were no mandatory international standards for intact stability for tankships. Single-hull tankships in the intact condition were considered relatively stable, so mandatory intact stability regulations were not necessary. However, certain double-hull tankship designs are considered less stable than single-hull tankships and require intact stability regulations. For example, some double-hull designs develop large free-surfaces during simultaneous cargo and ballast operations that can lead to lolling. In 1993, IMO re-issued intact stability standards for various ship types by issuing the Code on Intact Stability, adopted by IMO Resolution A.749(18), which can be applied to double-hull tankship designs. However, compliance with the Code was not mandatory.

While lolling does not occur often, one 1993 case documented by the Coast Guard demonstrated that lolling could cause damage to property, with the potential for loss of life, personnel injury, and environmental pollution. Based on the potential dangers of lolling and because the IMO Code on Intact Stability was not mandatory, we determined that double-hull tankships should have intact stability requirements.

We determined two regulatory approaches for solving the problem. One approach, the “design approach,” would eliminate lolling through tanker designs. The second approach, the “operations approach,” would eliminate lolling by restricting operations.

At the 1997 IMO meeting of the Marine Environment Protection Committee, representatives of the United States, other nations, and the Oil Companies International Marine Forum advocated the design approach. Despite advocating the operations approach, other countries and organizations, including Japan and the International Association of Independent Tanker Owners, agreed that the design approach was preferable. After extended debate, IMO adopted the design approach, limiting exceptions to combination carriers. IMO was concerned that a tankship's master and cargo officer would find themselves too preoccupied with the complicated and often time-sensitive loading and unloading process to properly implement the operations approach to prevent lolling. The IMO document adopting the design approach is Resolution MEPC.75(40), adopted on September 25, 1997.

We propose adding the new regulations 33 CFR 157.22 and 46 CFR 172.070 requiring all tankships of 5,000 DWT and above contracted for after the effective date of this rulemaking, to comply with the international intact stability design standards of MARPOL 73/78. The proposed 33 CFR 157.22 and 46 CFR 172.070 specifically address the problem of tankships lolling during loading and unloading. These new sections would require that tankships of 5,000 DWT and above contracted after the effective date of this rulemaking be designed to prevent lolling.

8. Garbage discharge records. This proposed amendment would change the requirements regarding which ships are required by law to maintain garbage discharge records. MARPOL 73/78 provides the requirements for every ship of 400 gross tons and above to carry garbage discharge records. To align more closely with MARPOL 73/78, we propose changing 33 CFR 151.55 by removing the requirements for manned oceangoing ships of 12.2 meters (approximately 40 feet) and above in length and engaged in commerce. Instead, we would require every manned oceangoing ship of 400 gross tons and above engaged in commerce to carry garbage discharge records. Additionally, we would require every manned ship engaged in an international voyage that is certified to carry 15 passengers or more to carry garbage discharge records according to MARPOL 73/78, Annex V, regulation 9(3).

9. Placards for reception facilities. This proposed amendment would require ports and terminals to display a placard or placards notifying users to report inadequacies to the local U.S. Coast Guard Captain of the Port (COTP). This proposal is a requirement of 33 U.S.C. 1905. Requirements for adequate reception facilities already exist under 33 CFR part 158, however this proposal requires port and terminal users with an avenue to report inadequacies. The placards would instruct port users to report any inadequacy, such as inability to receive medical or hazardous waste or inability to receive waste within 24 hours notice, to the proper authority. Proposed 33 CFR 158.415 specifies the wording for reception facility placards.

10. Equivalent shore connections for the discharge of oily mixtures. This proposed amendment would change the shore connection requirement for certain U.S.-flag ships operating only in domestic service. Currently, 33 CFR 155.410 and 155.420 specify the requirements for shore connections on non-oceangoing ships of 100 gross tons and above and oceangoing ships of 100 gross tons to less than 400 gross tons. On these ships, the connections for discharging oily mixtures to shoreside reception facilities are required to meet the international-type standard specified in 33 CFR 155.430. We propose amending 33 CFR 155.410 and 155.420 to allow the specified ships operating only in domestic service to use any shore connection compatible with U.S. reception facilities, rather than an international-type connection.

11. Definitions of the terms “fuel oil,” “oily mixtures,” “oil,” “petroleum oil,” “oil cargo residue,” “oily rags,” and “oil residue.” These proposed amendments would redefine for clarity those words in the regulations dealing with oil. Section 151.10(c) of 33 CFR addresses the control of discharge of “cargo related oil residue.” Recently, this term was judged as too vague to criminally charge a person with illegally discharging muck or paraffin from the crude oil cargo tanks of a vessel. To eliminate any future misinterpretations, we propose re-defining “oil,” “petroleum oil,” and “oily mixtures.” We eliminated “mineral oil” from the examples in the definition of “petroleum oil” because it is a petroleum-based oil component regulated under Annex I of MARPOL. The deletion is not intended to imply that “mineral oil” is not a regulated substance but that it does not need to be separately stated as an example in the definition. We also propose adding definitions for “fuel oil,” “oil residue,” “oily rags,” and “oil cargo residue” and incorporating industry standard terms into these definitions. The definitions of “fuel oil” and “oil cargo residue” also list synonyms of the terms (i.e., “oil fuel” and “cargo oil residue,” respectively). We would use these terms and definitions consistently throughout 33 CFR parts 151, 155, 157, and 158 to eliminate ambiguity.

The following table, Table 1, provides the:

• Proposed amendments for NPRM;

• MARPOL 73/78 cites dictating regulatory changes;

• 33 and 46 CFR cites affected; and

• Brief descriptions of the proposed regulatory changes to the U.S. regulations.

BILLING CODE 4910-15-P

BILLING CODE 4910-15-C

Regulatory Evaluation

This proposed rule is not a “significant regulatory action” under section 3(f) of Executive Order 12866 and does not require an assessment of potential costs and benefits under section 6(a)(3) of that order. The Office of Management and Budget has not reviewed this regulatory evaluation under that order. Also, this proposed rulemaking is not “significant” under the regulatory policies and procedures of the Department of Transportation (DOT) (44 FR 11040; February 26, 1979). We expect the economic impact of this proposed rule to be minimal, and a full Regulatory Evaluation under paragraph 10e of the regulatory policies and procedures of DOT is not necessary. However, we have prepared a regulatory evaluation to clarify the potential cost and benefit impact from this proposed rule.

a. General Assumptions

1. The cost of this rulemaking is calculated for a 10-year period beginning in 2001 and ending on 2010.

2. In accordance with current Office of Budget and Management (OMB) guidance, program costs and benefits are discounted at 7 percent present value in year 2000 dollars.

3. Annual populations for the cost requirements are based on trend data from 1992 through 1996 contained in the Coast Guard Marine Safety Management System (MSMS) for U.S-flag vessels.

4. Tank vessels are currently practicing the policies established in Navigation and Vessel Inspection Circular (NVIC) No. 6-94, “Guidance for Issuing International Oil Pollution Prevention (IOPP) Certificates Under Annex I of the International Convention for the Prevention of Pollution from Ships, 1973, as Modified by the Protocol of 1978 Relating Thereto (MARPOL 73/78).” These policies resulted, in part, from amendments to MARPOL 73/78 that required each tanker of 150 gross tons and above and each ship of 400 gross tons and above that engages in a voyage between countries party to MARPOL 73/78 to be surveyed and to have an IOPP Certificate. Also, NVIC No. 6-94 updated and corrected former NVIC No. 9-86 to account for U.S. policy determinations made since NVIC No. 9-86 was issued and for the following actions taken by the International Maritime Organization (IMO):

• Acceptance and entering into force of requirements dealing with the design of new tankers built on or after July 6, 1993.

• Measures for existing tankers.

• New oil discharge criteria for filtering equipment and control systems including instantaneous rate to discharge oily cargo mixtures.

This rulemaking proposes to incorporate these policies into our regulations to ensure that all U.S. vessels subject to these requirements meet the international standards approved by the IMO and required by MARPOL 73/78.

b. Costs

1. Industry Costs. The total present value costs for this proposed rule for the 10-year period would approximate $2,399,960. The costs are distributed as follows:

i. Oily-water or bilge monitors, $3,037.

ii. Implementation and maintenance of placards for reception facilities, $2,396,923.

• Oily-water or bilge monitors. Based on the policies established in NVIC No. 6-94, we estimated that at least 90 percent of the 131 tank vessel affected population is currently operating within policy guidelines by automatically or manually setting the oil or oily water discharge rate to not exceed 30 liters per nautical mile. The other 10 percent would simply upgrade their existing monitoring systems with new components that meet the new requirement. The estimated equipment costs to upgrade the components of an existing bilge monitor averages 250 dollars, making the one time cost of this proposed change approximately $3,250. When present valued in 2000 dollars, the cost would be $3,037.

• Oil filtering equipment. We estimate that the proposed requirement would affected 650 vessels, all of which are currently practicing the policies established in NVIC No. 6-94 and currently have oil filtering equipment that complies with the 15 ppm oil content of the effluent discharged. Therefore, this proposed requirement would not impose additional costs.

• Automatic shut-off device/alarm. We estimate that he proposed requirement would affect 396 ships, all of which already practice the policies established in NVIC No. 6-94. Therefore, this proposed requirement would not impose additional costs.

• Damage stability for tank vessels. We estimate that the proposed requirement would affect 650 vessels. Based on trend data from the MSMS database (1992-1996), we estimate that 13 U.S.-flag tank vessels 20,000 DWT and above would be built each year. For every single-hull tank vessel that is phased-out before 2015, a double-hull tank vessel may be built as its replacement. Currently, 54 single-hull tankships and 160 single-hull tank barges will be phased out over the next 16 years. For the 10-year period of costs for this rulemaking, approximately 3 tankships and 10 tank barges will be built annually to meet demand and to replace phased-out tank vessels (130 tank vessels over the 10-year period).

We expect the affected tank vessel fleet to incur minimal costs to comply with the damage stability requirements proposed in this rule. The U.S. international fleet currently complies with the damage stability requirements in MARPOL 73/78. Also, vessels in the U.S. domestic fleet that hold IOPP Certificates currently meet the additional design and engineering calculation requirements for design stability.

Moreover, under section 4115(a) of the Oil Pollution Act of 90 (OPA 90), these single-hull tank vessels are required to be retrofitted with double hulls or phased out of service by the year 2015. For vessels being retrofitted, there would be nominal additional costs during the design process for additional stability analyses. The proposed requirements would entail fitting the vessel with U-shaped ballast tanks, instead of J-shaped (or other) ballast tanks, and relocating cargo tank boundaries.

• Intact stability for tank vessels. We assume that all tank vessels of 5,000 DWT and above will be constructed so that they are capable of engaging in international commerce. Therefore, we assume that, in order to participate in international commerce, all currently operating tank vessels affected by this rulemaking already meet the intact stability requirements in MARPOL 73/78. Additionally, we assume that, in order to engage in international commerce, all tank vessels currently under construction and those constructed subsequent to this rulemaking will also be constructed in accordance with the requirements of MARPOL 73/78. Therefore, since all current and future tank vessels affected by this rulemaking must already meet the requirements of MARPOL 73/78 in order to engage in trade with other countries signatory to MARPOL, there are no additional costs incurred by the intact stability requirement.

• Implementation and maintenance of placards for reception facilities. There are 11,391 reception facilities that would be affected by the proposed change. We estimate that the average facility would need to post three placards to adequately cover the entrances and place of business that are clearly visible for port and terminal users. Therefore, each facility would post approximately three placards, which are estimated to cost $50 each. This is a standardized cost for placards or signs approved by the Coast Guard. The onetime cost for implementation of this proposed requirement is approximately $1,708,650. When present valued in 2000 dollars, the cost would be $1,596,869.

The display of placards also implies that the placards be maintained by the ports or terminals. This maintenance constitutes a collection of information and recordkeeping requirement under the Paperwork Reduction Act. The total annual cost (burden) of $113,910 for this information-collection would be added to a revised OMB collection 2115-0543. The affected population and hour burden is explained in the “Collection of Information” section. The accumulated present value for the 10-year period of this burden is $800,054. Therefore the total present value cost (burden) of this requirement is $2,396,923.

The definitions of the terms “ports” and “terminals” under 33 CFR 158.120 include virtually all ports and terminals. It is easier to describe those terminals that are not required to provide reception facilities for garbage. They are recreational boating facilities that can provide wharfage or other services for less than 10 recreational vessels at the same time and locations and facilities containing only an unattended launching ramp. All other waterfront facilities, where vessels can tie up in the navigable waters or waters subject to the jurisdiction of the U.S. out to the Exclusive Economic Zone (EEZ) and where the owner or operator of the facility is conducting business with ships, must be capable of receiving garbage from visiting ships. These facilities include fishing terminals, fixed or floating facilities supplying petroleum products or other services, waterfront facilities servicing the offshore oil industry, recreational boating facilities that are capable of providing wharfage or other services for 10 or more vessels at the same time, waterfront facilities servicing commercial ships, and offshore structures that receive ships such as deepwater ports.

• Equivalent shore connections. For the purposes of this proposed rulemaking, we consider any shore connection compatible with U.S. reception facilities as equivalent to each other. All ships that would be subject to this requirement currently have shore connections that are compatible with U.S. reception facility connections.

This proposed rule would allow the specified ships to use any shore connection that is compatible with U.S. reception facilities when operating only on domestic voyages, rather than a connection that meets the international-type standard. Although the ships would not comply with the international-type standard, they would meet the intent of the standard by having a connector that is compatible with discharge facilities in their area of operation. Because these ships currently have connections that are compatible with the facilities used, this requirement would not impose an additional cost (or benefit) on these ships.

2. Government costs. We expect that government costs under this rule would be negligible. The information-collection requirements contained in this rule are minor additions to information-collection requirements imposed by other Coast Guard regulations.

c. Benefits

1. Industry Benefits. The total present value of industry benefits for this proposed rule for the 10-year period would be approximately $164.1 million. The industry benefits for this proposed rulemaking are distributed as follows:

i. IOPP certificates: $3,715.

ii. Garbage discharge records: $163.5 million.

iii. International oil discharge compliance: $632,122.

• IOPP Certificates. This rulemaking proposes to change the term of the IOPP certificate from 4 to 5 years for both inspected and uninspected vessels. The costs for this rulemaking are included under the approved collection OMB 2115-0518. By aligning U.S. regulations with international standards, the annual paperwork burden cost would be reduced by $530. The 10-year accumulated present value of the recurring benefit is approximately $3,715.

• Refuse discharge. This proposed regulation would require each oceangoing ship of 400 gross tons and above engaged in commerce and documented under the laws of the United States or numbered by a State, each vessel certified to carry 15 passengers or more on international voyages, and each fixed or floating platform subject to the jurisdiction of the United States to maintain garbage discharge records on board. We use these records to determine how ship-generated waste is handled (i.e., incinerated, discharged at sea, or off-loaded at a shore reception facility). Since all of these vessels currently maintain these records, this proposal would impose no additional information-collection burden. It would create an annual benefit for those vessels no longer required to maintain these records. The total annual cost (burden) for this information-collection is estimated in revised OMB collection 2115-0613 to be a total annual cost (burden) of $2.6 million, and it would apply to 1,296 vessels. The previous requirement imposed a cost (burden) of $25.9 million on 16,878 vessels. The annual impact of the proposed rule would save industry $23.3 million. Therefore, the accumulated present value for the 10-year period of this benefit is $163.5 million.

• International oil discharge limitations compliance. Implementing these proposed regulations would ensure that U.S. vessels comply with the international oil discharge limitations, enabling them to engage in international trade with minimal interruption. Vessels that are not in compliance with this rulemaking could be denied entry into ports of countries party to MARPOL 73/78 or could experience detention in these ports. These actions would result in a substantial monetary loss due to the vessel's inability to engage in trade.

Assuming non-compliance with the international oil discharge limitations, and that one U.S. vessel would be detained each year, we estimate the avoided-cost savings of complying with this rulemaking would be $90,000 per year. The accumulated present value for the ten-year period of this benefit would be $632,122.

• Oily-water separating equipment. Based on the methodology indicated in the IMO publication and the United States National Academy of Sciences study, “Petroleum in the Marine Environment” (adopted in 1981), we identified that the 650 vessels equipped with oily-water separating equipment for oil content allowances at 100 ppm currently discharge approximately ⅒ of their accumulated bilge oil to sea. When applied to all of the vessels subject to this requirement, the Coast Guard estimates indicate a potential reduction in the amount of oily water discharged into the sea by approximately 396 tons (2,485 barrels) annually, if oily-water equipment has a discharge allowance of 15 ppm.

Small Entities

Under the Regulatory Flexibility Act (5 U.S.C. 601-612), we considered whether this proposed rule would have a significant economic impact on a substantial number of small entities. The term “small entities” comprises small businesses, not-for-profit organizations that are independently owned and operated and are not dominant in their fields, and governmental jurisdictions with populations of less than 50,000.

There are two proposed requirements that would impose additional costs to the small entities affected by this proposed rulemaking. The proposed placards to be posted by reception facilities would add an estimated cost of $150 per facility. Reception facilities would also be required to maintain the proposed placards, and the annual maintenance burden would be $10 per facility. The 10-year present value of the maintenance cost imposed on each reception facility would be $75. We assume that each facility would need to spend a half-hour maintaining the placards on annual basis at a wage rate of $20 per hour. Combined, the accumulated present value of the cost of placards and their maintenance would be $225 for the analyzed 10-year period ($150 for placards + $75 maintenance). We consider this cost to be minimal and would not pose a substantial economic burden on the reception facilities affected by this proposed requirement.

The proposed oily-water or bilge monitors requirement would impose a $250 cost per tank vessel. This would be a one-time cost, and in our view a very small additional cost to tank vessel owners, considering that the cost of a tank vessel, depending on its size, may be $100,000,000 or more.

In addition, we propose removing the requirement for garbage discharge records for ships of 12.2 meters (40 ft) or more in length and less than 400 gross tons. These ships are most likely to be owned by the small entities in this industry and would no longer be required to keep garbage disposal records. Therefore, the small entities that own these vessels would benefit from the proposed change in the regulation. We estimate that 15,582 oceangoing vessels would no longer need to meet this requirement, and the average annual cost savings to each vessel would be $1,494 ($23.3 million/15,582 vessels). The accumulated present value of these cost savings for the 10-year period of analysis would be $10,491 per vessel (163.5 million/15,582 vessels).

Therefore, the Coast Guard certifies under 5 U.S.C. 605(b) that this proposed rule would not have a significant economic impact on a substantial number of small entities. If you think that your business, organization, or governmental jurisdiction qualifies as a small entity and that this rule would have a significant economic impact on it, please submit a comment to the Docket Management Facility at the address under ADDRESSES. In your comment, explain why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please consult Lieutenant Commander Michael Jendrossek at 202-267-1181. We also maintain a small business regulatory assistance Web Page at http://www.uscg.mil/hq/g-m/regs/reghome.html that has current information on small entity issues and proposed Coast Guard regulations.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This proposed rule would call for three collections of information under the Paperwork Reduction Act of 1995 (44 U.S.C. 3501-3520). As defined in 5 CFR 1320.3(c), “collection of information” comprises reporting, recordkeeping, monitoring, posting, labeling, and other, similar actions. The title and description of the information-collections, a description of those who must collect the information, and an estimate of the total annual burden follow. The estimate covers the time for reviewing instructions, searching existing sources of data, gathering and maintaining the data needed, and completing and reviewing the collection.

The information-collection requirements of this proposed rule are addressed in the OMB collections 2115-0518, 2115-0543, and 2115-0613.

Refuse discharge. This proposed requirement would mandate that every oceangoing ship 400 gross tons and above and all vessels certified to carry 15 or more passengers engaged in international voyages develop and maintain garbage discharge records on board. Oceangoing vessels less than 400 gross tons would no longer be required to carry garbage discharge records with the exception of vessels certified to carry 15 passengers or more on international voyages. The burden for this requirement would be included in a revised OMB collection 2115-0613.

IOPP Certificates. This rulemaking proposes to change the term of the IOPP certificate from 4 to 5 years. This proposed change would decrease the information-collection burden on ship owners. The information-collection burden of the IOPP certificate is included under the previously approved OMB collection 2115-0518.

Placards for reception facilities. The proposal includes a requirement for all U.S. reception facilities to post and maintain placards that notify users that the facility is a waste reception facility and that inadequacies shall be reported to the local Coast Guard COTP. This information is required to comply with the MARPOL Protocol. The information-collection costs associated with this requirement, under OMB (5 CFR part 1320.3(c)(1)), would include only the facilities' cost to keep records to maintain these placards. This information-collection would be added in an amended OMB collection 2115-0543.

1. OMB Collection 2115-0518

Title: Requirements for the Installation and Use of Oil Discharge Monitoring Equipment for Tank Vessels and International Oil Pollution Prevention Certificates.

Summary of the Collection of Information: This collection concerns the issuance of International Oil Pollution Prevention (IOPP) Certificates and would be impacted by the proposed changes in 33 CFR 151.19.

Need for Information: Not applicable. This proposed rule would amend a previously approved collection of information by changing the term of a certificate. The need to collect this information (i.e., to assist the Coast Guard in determining whether or not a ship complies with MARPOL 73/78) is required by MARPOL.

Description of the Respondents: This collection would affect U.S.-flag tank vessels of 150 gross tons and above, and other U.S.-flag ships of 400 gross tons and above, that engage in voyages to ports or offshore terminals under the jurisdiction of other parties to MARPOL 73/78.

Number of Respondents: According to Marine Safety Information System (MSIS) records, the collection of information for approximately 1,062 vessels would be affected by the proposed changes.

Frequency of Response: An IOPP Certificate would be issued every 5 years, instead of every 4 years.

Burden of Response: The burden to respondents is approximately 20 minutes (0.33 hours) per response.

Estimated Total Burden: During a 3-year period, the total reporting and recordkeeping burden would be 784 hours.

2. OMB Collection 2115-0543

New Title: Adequacy Certification, Advance Notice, and Placards for Reception Facilities.

Summary of the Collection of Information: This collection would be amended by the proposed maintenance requirement of placards in 33 CFR 158.415. The proposed requirement would direct the reception facility to maintain placards describing their disposal requirements.

Need for Information: The maintenance of placards can ensure that they are legible and accurate. Section 33 CFR 158.415 requires facilities to maintain placards describing how and where to report inadequacies.

Proposed Use of Information: This information would strengthen enforcement efforts for discharge prohibitions of MARPOL 73/78 Annex I (Oil), Annex II (NLS), and Annex V (Garbage) at reception facilities.

Description of Respondents: Ports or terminals that have reception facilities.

Number of Respondents: 11,391 reception facilities during a 3-year period.

Frequency of Response: Perform maintenance as needed.

Burden of Response: We estimate that it would take 30 minutes (0.5 hours) of management time to comply with the proposed requirement.

Estimated Total Annual Burden: The annual maintenance of placards would be 5,696 hours.

3. OMB Collection 2115-0613

New Title: Waste Management Plans, Recordkeeping of Refuse Discharge, and Letter of Instruction for Persons-in-Charge.

Summary of the Collection of Information: This collection addresses the refuse discharge records as would be affected by the proposed rule in 33 CFR 151.55. As a result, we would amend and incorporate the following approved OMB Collections into one:

• OMB 2115-0120 “Transfer Procedures and Waste Management Plans.” Only the Waste Management Plans portion of this collection is being combined into this submission.

• OMB 2115-0613 previously titled “Recordkeeping of Refuse Discharges from Ships.”

• OMB 2115-0634 previously titled “Letter of Instruction for Persons-in-Charge (PIC) on Uninspected Vessels.”

Need for Information: The proposed 33 CFR 151.55 would require U.S. ships to maintain records of discharge and disposal operations (incineration, legal discharge at sea, off-loading to a port reception facility, etc.) to determine how ship-generated waste is handled.

Proposed Use of Information: This information would ensure that the designated vessel meets a particular pollution prevention standard that promotes the safety of life, environment, and property in marine transportation.

Description of Respondents: The proposed rule would affect operators of U.S.-flag oceangoing vessels of 400 gross tons and above and all vessels certified to carry 15 passengers or more engaged in international voyages. Vessel operators would maintain documentation on garbage discharge. Current collection requirements on Manned Fixed or MODUs would not be impacted by the proposed changes.

Number of Respondents: The proposed regulation would require 1,296 vessel operators to maintain records.

Frequency of Response: Every time garbage is disposed, it must be documented.

Burden of Response: Each record entry is estimated to take 5 minutes.

Estimated Total Annual Burden: The refusal discharge requirement would pose a burden of 52,569 hours for the affected vessels in this proposed rulemaking. The Office of Management and Budget has already approved the collection requirement. The effect this proposed rule would have on the collection of information is to reduce the affected population as it relates to refuse discharge records.

Public Comment on the Collections of Information: As required by the Paperwork Reduction Act of 1995 (44 U.S.C. 3507(d)), we have submitted a copy of this proposed rule to the Office of Management and Budget (OMB) for its review of the collection of information.

We ask for public comment on the proposed collection of information to help us determine how useful the information is; whether it can help us perform our functions better; whether it is readily available elsewhere; how accurate our estimate of the burden of collection is; how valid our methods for determining burden are; how we can improve the quality, usefulness, and clarity of the information; and how we can minimize the burden of collection.

If you submit comments on the collection of information, submit them both to OMB and to the Docket Management Facility where indicated under ADDRESSES, by the date under DATES.

Before the requirements for this collection of information become effective, we will publish notice in the Federal Register of OMB's decision to approve, modify, or disapprove the collection.

Federalism

We have analyzed this proposed rule under Executive Order 13132, Federalism, and have determined that it does not have implications for federalism under that order.

Section 3(b) of the order allows Federal agencies to take a national action that limits the policymaking discretion of the States if there is constitutional and statutory authority for the action and if the action is appropriate in light of the presence of a problem of national significance. With the decision of the Supreme Court in the consolidated cases of United States v. Locke (number 98-1701) and Intertanko v. Locke (number 1706) on March 6, 2000, (120 S.Ct. 1135 (1999)) the States are precluded from regulating any of the categories covered by 46 U.S.C. 3703(a): design, construction, alteration, repair, maintenance, operation, equipping, personnel qualification, and manning of tank vessels.

This proposed rule concerns requirements for the construction (damage and intact stability), operation (operational discharges of oil, International Oil Pollution Prevention Certificates, and garbage recordkeeping requirements), and equipping (oily-water separators) for tank vessels or other oceangoing vessels. It also would implement the statutory mandate (33 U.S.C. 1905(f)(2)) for placards at reception facilities under MARPOL 73/7 and allow the use of an optional type of shore connection equipment for domestic vessels discharging oily mixtures at shoreside facilities. This entire proposed rule falls within the preempted categories listed above, which, as we have long held, apply to both inspected vessels as well as tank vessels. For this reason, preemption is not an issue in this rulemaking.

Unfunded Mandates Reform Act

The Unfunded Mandates Reform Act of 1995 (2 U.S.C. 1531-1538) requires Federal agencies to assess the effects of their regulatory actions not specifically required by law. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and does not concern an environmental risk to health or risk to safety that may disproportionately affect children.

Environment

We considered the environmental impact of this proposed rule and concluded that, under figure 2-1, paragraph (34)(d) and (34)(e), of Commandant Instruction M16475.1C, this proposed rule is categorically excluded from further environmental documentation.

The proposed rule would align U.S. regulations concerning IOPP Certificates, oily-water separators, operational discharge of oil, and damage and intact stability of tank vessels with the international standards, meeting the recent amendments to MARPOL 73/78. This rulemaking would also require vessels of 20,000 deadweight tons (DWT) and above to comply with the MARPOL 73/78 damage stability provisions and vessels of 5,000 DWT and above to comply with the MARPOL 73/78 intact stability provisions. In addition, this rulemaking would amend requirements regarding the use of domestic shore connections, recordkeeping requirements for the discharge of garbage, and placards telling how to report deficiencies at reception facilities. This rule would only relax the reporting requirements on garbage disposal records. It does not relax the manner in which garbage is treated. Therefore this rule is categorically excluded from further environmental documentation. A “Categorical Exclusion Determination” is available in the docket for inspection or copying where indicated under ADDRESSES.

List of Subjects

33 CFR Part 151

Administrative practice and procedure, Oil pollution, Penalties, Reporting and recordkeeping requirements, Water pollution control.

33 CFR Part 155

Hazardous substances, Incorporation by references, Oil pollution, Reporting and recordkeeping requirements.

33 CFR Part 157

Cargo vessels, Oil pollution, Reporting and recordkeeping requirements.

33 CFR Part 158

Administrative practice and procedure, Harbors, Oil pollution, Penalties, Reporting and recordkeeping requirements, Water pollution control.

46 CFR Part 172

Cargo vessels, Hazardous materials transportation, Incorporation by reference, Marine safety.

For the reasons discussed in the preamble, the Coast Guard proposes to amend 33 CFR parts 151, 155, 157, and 158 and 46 CFR part 172 as follows:

33 CFR PART 151—VESSELS CARRYING OIL, NOXIOUS LIQUID SUBSTANCES, GARBAGE, MUNICIPAL OR COMMERCIAL WASTE, AND BALLAST WATER

1. The authority citation for part 151, subpart A, continues to read as follows:

Authority: 33 U.S.C. 1321 and 1903; Pub. L. 104-227 (110 Stat. 3034), E.O. 12777, 3 CFR, 1991 Comp. p. 351; 49 CFR 1.46.

§ 151.01 [Amended]

2. In § 151.01, remove the note.

3. In § 151.05, revise the definition of the terms “MARPOL 73/78”, “oil”, “oily mixture” and “operational waste” and add, in alphabetical order, the definitions of “fuel oil” “oil cargo residue” and “oily rags” to read as follows:

§ 151.05 Definitions.

* * * * *

Fuel oil means any oil used to fuel the propulsion and auxiliary machinery of the ship carrying the fuel. The term “fuel oil” is also known as “oil fuel.”

* * * * *

MARPOL 73/78 means the International Convention for the Prevention of Pollution from Ships, 1973, as modified by the Protocol of 1978 relating to that Convention. A copy of MARPOL 73/78 is available from the International Maritime Organization, 4 Albert Embankment, London, SE1 7SR, England.

* * * * *

Oil means petroleum whether in solid, semi-solid, emulsified, or liquid form, including but not limited to, crude oil, fuel oil, sludge, oil refuse, oil residue, and refined products, and, without limiting the generality of the foregoing, includes the substances listed in Appendix I of Annex I of MARPOL 73/78. “Oil” does not include animal and vegetable based oil or noxious liquid substances (NLS) designated under Annex II of MARPOL 73/78.

Oil cargo residue means any residue of oil cargo whether in solid, semi-solid, emulsified, or liquid form from cargo tanks and cargo pump room bilges, including but not limited to, drainages, leakages, exhausted oil, muck, clingage, sludge, bottoms, paraffin (wax), and any constituent component of oil. The term “oil cargo residue” is also known as “cargo oil residue.”

Oil residue means—

(1) Oil cargo residue; and

(2) Other residue of oil whether in solid, semi-solid, emulsified, or liquid form, resulting from drainages, leakages, exhausted oil, and other similar occurrences from machinery spaces.

Oily mixture means a mixture, in any form, with any oil content. “Oily mixture” includes, but is not limited to—

(1) Slops from bilges;

(2) Slops from oil cargoes (such as cargo tank washings, oily waste, and oily refuse);

(3) Oil residue; and

(4) Oily ballast water from cargo or fuel oil tanks.

Oily rags means rags soaked with oil.

Operational waste means all cargo-associated waste, maintenance waste, and cargo residues other than oil residues and NLS cargo residues. “Operational wastes” includes ashes and clinkers (i.e., a mass of incombustible matter fused together by heat) from shipboard incinerators and coal burning boilers but does not include plastic clinkers, which are treated as an Annex V waste, or oily rags, which are treated as an Annex I waste.

* * * * *

§ 151.08 [Amended]

4. In § 151.08(a), remove the words “oil or oily residues and mixtures” and add, in their place, the words “oil, oil residue, or oily mixtures”.

5. In § 151.10-

a. In paragraph (a)(5), remove the number “100” and add, in its place, the number “15”;

b. In the note at the end of paragraph (f)(2)(iii), remove the words “the residues and mixtures containing oil” and add, in their place, the words “oil residues and oily mixtures”; and

c. Revise paragraph (c), paragraph (f) introductory text, and paragraphs (f)(2)(i) through (f)(2)(iii) to read as follows:

§ 151.10 Control of oil discharges.

* * * * *

(c) The overboard discharge of any oil cargo residues and oily mixtures that include oil cargo residues from an oil tanker is prohibited, unless discharged in compliance with part 157 of this chapter.

* * * * *

(f) The person in charge of an oceangoing ship that cannot discharge oily mixtures into the sea in compliance with paragraphs (a), (b), (c), or (d) of this section must ensure that those oily mixtures are—

* * * * *

(2) * * *

(i) The estimated time of day the ship will discharge oily mixtures;

(ii) The type of oily mixtures to be discharged; and

(iii) The volume of oily mixtures to be discharged.

* * * * *

6. In § 151.13, revise paragraph (b)(3) to read as set forth below and, in paragraph (f), remove the words “oil residues” and add, in their place, the words “oily mixtures”:

§ 151.13 Special areas for Annex I of MARPOL 73/78.

* * * * *

(b) * * *

(3) All ships operating in the Antarctic area must have on board a tank or tanks of sufficient capacity to retain all oily mixtures while operating in the area and arrangements made to discharge oily mixtures at a reception facility outside the Antarctic area.

* * * * *

7. In § 151.19, revise paragraph (e) introductory text to read as follows:

§ 151.19 International Oil Pollution Prevention (IOPP) Certificates.

* * * * *

(e) The IOPP Certificate for each inspected or uninspected ship is valid for a maximum period of 5 years from the date of issue, except as follows:

* * * * *

§ 151.25 [Amended]

8. In § 151.25—

a. In paragraph (d)(2), remove the words “dirty ballast” and add, in their place, the words “ballast containing an oily mixture”;

b. In paragraph (d)(3), remove the words “oily residues (sludge)” and add, in their place, the words “oil residue”; and

c. In paragraph (e)(10), remove the word “residues” and add, in its place, the words “oil residue”.

§ 151.26 [Amended]

9. In § 151.26—

a. In paragraphs (b)(3)(i)(A) and (b)(3)(i)(B), after the words “A discharge of oil”, add the words “or oily mixture”; and

b. In paragraph (b)(3)(iii)(B), after the words “For actual or probable discharges of oil”, add the words “or oily mixtures”.

10. In § 151.55, revise paragraphs(a)(1) and (a)(2) and add a new paragraph (a)(3) to read as follows:

§ 151.55 Recordkeeping requirements.

(a) * * *

(1) Every manned oceangoing ship (other than a fixed or floating platform) of 400 gross tons and above that is engaged in commerce and that is documented under the laws of the United States or numbered by a State.

(2) Every manned fixed or floating platform subject to the jurisdiction of the United States.

(3) Every manned ship that is certified to carry 15 passengers or more engaged in international voyages.

* * * * *

PART 155—OIL OR HAZARDOUS MATERIAL POLLUTION PREVENTION REGULATIONS FOR VESSELS

11. The authority citation for part 155 continues to read as follows:

Authority: 33 U.S.C. 1231, 1321(j); 46 U.S.C. 3715, 3719; sec. 2, E.O. 12777, 56 FR 54757, 3 CFR, 1991 Comp., p. 351; 49 CFR 1.46, 1.46(iii). Sections 155.100 through 155.130, 155.350 through 155.400, 155.430, 155.440, 155.470, 155.1030(j) and (k), and 155.1065(g) also issued under 33 U.S.C. 1903(b); and §§ 155.1110 through 155.1150 also issued under 33 U.S.C. 2735.

§ 155.330 [Amended]

12. In § 155.330, in the section heading, remove the words “Bilge slops/fuel oil” and add, in their place, the words “Oily mixture (bilge slops)/fuel oil” and, in paragraph (b), remove the words “oily residue” and add, in their place, the words “oil residue”.

13. In § 155.350, revise the section heading and paragraph (a)(2) to read as follows and, in paragraph (b), remove the words “oily residue” and add, in their place, the words “oil residue”:

§ 155.350 Oily mixture (Bilge slops)/fuel oil tank ballast water discharges on oceangoing ships of less than 400 gross tons.

(a) * * *

(2) Has approved oily-water separating equipment for processing oily mixtures from bilges or fuel oil tank ballast and discharges into the sea according to § 151.10 of this chapter.

* * * * *

14. In § 155.360—

a. In the section heading, remove the words “Bilge slops” and add, in their place, the words “Oily mixture (Bilge slops)”;

b. In paragraph (a), remove the number “100” and add, in its place, the number “15” and remove the words “oily bilge slops or oily” and add, in their place, the words “oily mixtures from bilges or”;

c. In paragraph (b), remove the words “oily residues (sludges)” and add, in their place, the words “oil residue”;

d. In paragraph (b)(2), remove the words “oily wastes” and add, in their place, the words “oily mixtures”; and

e. Revise paragraph (e) to read as follows:

§ 155.360 Oily Mixtures (Bilge slops) discharges on oceangoing ships of 400 gross tons and above but less than 10,000 gross tons, excluding ships that carry ballast water in their fuel oil tanks.

* * * * *

(e) This section does not apply to a fixed or floating drilling rig or other platform, except as specified in § 155.400(a)(2).

15. In § 155.370—

a. Revise the section heading and paragraph (a) to read as set forth below;

b. In paragraph (b) introductory text, remove the words “oily residues (sludges)” and add, in their place, the words “oil residue”;

c. In paragraph (b)(1), remove the words “oily residues” and add, in their place, the words “oil residue”;

d. In paragraph (b)(2), remove the words “oily wastes” and add, in their place, the words “oily mixtures”;

e. Remove paragraph (d);

f. Redesignate paragraphs (e) and (f) as paragraphs (d) and (e), respectively; and

g. Revise new paragraph (e) to read as follows:

§ 155.370 Oily mixture (bilge slops)/fuel oil tank ballast water discharges on oceangoing ships of 10,000 gross tons and above and oceangoing ships of 400 gross tons and above that carry ballast water in their fuel oil tanks.

(a) No person may operate an oceangoing ship of 10,000 gross tons and above, or any oceangoing ship of 400 gross tons and above, that carries ballast water in its fuel oil tanks, unless it has—

(1) Approved 15 ppm oily-water separating equipment for the processing of oily mixtures from bilges or fuel oil tank ballast;

(2) A bilge alarm; and

(3) A means for automatically stopping any discharge of oily mixture when the oil content in the effluent exceeds 15 ppm.

* * * * *

(e) This section does not apply to a fixed or floating drilling rig or other platform, except as specified in § 155.400(a)(2).

§ 155.380 [Amended]

16. In § 155.380, remove paragraph (c) and redesignate paragraph (d) as paragraph (c).

17. In § 155.410, revise paragraph (a)(3) to read as set forth below and, in paragraph (b), remove the words “oily bilge slops or oily” and add, in their place, the words “oily mixtures from bilges or”:

§ 155.410 Pumping, piping, and discharge requirements for non-oceangoing ships of 100 gross tons and above.

(a) * * *

(3) Each outlet required by this section has a shore connection that is compatible with reception facilities in the ship's area of operation; and

* * * * *

18. In § 155.420—

a. In paragraph (a)(3), remove the words “The outlet” and add, in their place, the words “For a ship on an international voyage, the outlet”;

b. Redesignate paragraphs (a)(4) and (a)(5) as paragraphs (a)(5) and (a)(6), respectively;

c. Add new paragraph (a)(4) to read as set forth below;

d. In newly designated paragraph (a)(5), remove the word “wastes” and add, in its place, the word “mixtures”; and

e. In paragraph (b), remove the words “oily bilge slops or oily” and add, in their place, the words “oily mixtures from bilges or”:

§ 155.420 Pumping, piping, and discharge requirements for oceangoing ships of 100 gross tons and above but less than 400 gross tons.

(a) * * *

(4) For a ship not on an international voyage, the outlet required by this section has a shore connection that is compatible with reception facilities in the ship's area of operation;

* * * * *

19. In § 155.430, revise paragraph (a) introductory text to read as set forth below and, in paragraph (b), remove the word “wastes” and add, in its place, the word “mixtures”:

§ 155.430 Standard discharge connections for oceangoing ships of 400 gross tons and above.

(a) All oceangoing ships of 400 gross tons and above must have a standard shore connection for reception facilities to discharge oily mixtures from machinery space bilges or ballast water containing an oily mixture from fuel oil tanks. The discharge connection must have the following dimensions:

* * * * *

§ 155.440 [Amended]

20. In § 155.440, in the section heading, remove the words “water ballast” and add, in their place, the words “ballast water”.

21. Revise § 155.810 to read as follows:

§ 155.810 Tank vessel security.

Operators of tank vessels carrying more oil cargo residue than normal in any cargo tank must assign a surveillance person or persons responsible for maintaining standard vessel security.

§ 155.1015 [Amended]

22. In § 155.1015, in paragraphs (a) introductory text and (c)(2), before the words “cargo residue”, add the word “oil”.

23. In § 155.1020, revise the definition of “petroleum oil” to read as follows:

§ 155.1020 Definitions.

* * * * *

Petroleum oil means petroleum in any form including, but not limited to, crude oil, fuel oil, sludge, oil residue, and refined products.

* * * * *

PART 157—RULES FOR THE PROTECTION OF THE MARINE ENVIRONMENT RELATING TO TANK VESSELS CARRYING OIL IN BULK

24. The authority citation for part 157 continues to read as follows:

Authority: 33 U.S.C. 1903; 46 U.S.C. 3703, 3703a (note); 49 CFR 1.46. Subparts G, H, and I are also issued under section 4115(b), Pub. L. 101-380, 104 Stat. 520; Pub. L. 104-55, 109 Stat. 546.

25. In § 157.03:

a. In the definitions of “lightweight”, “oil fuel”, and “segregated ballast” remove the words “oil fuel” and add, in their place, the words “fuel oil”;

b. In the definition of “slop tank”, remove the words “oil mixtures” and add, in their place, the words “oily mixtures”;

c. Add, in alphabetical order, the definitions of the terms “MARPOL 73/78”, “oil cargo residue”, and “oil residue”;

d. Remove the definition of “MARPOL Protocol”; and

e. Revise the definitions of “oily mixture” and “petroleum oil” to read as follows:

§ 157.03 Definitions.

* * * * *

MARPOL 73/78 means the International Convention for the Prevention of Pollution from Ships, 1973, as modified by the Protocol of 1978 relating to that Convention. A copy of MARPOL 73/78 is available from the International Maritime Organization, 4 Albert Embankment, London, SE1 7SR, England.

* * * * *

Oil cargo residue means any residue of oil cargo whether in solid, semi-solid, emulsified, or liquid form from cargo tanks and cargo pump room bilges, including but not limited to, drainages, leakages, exhausted oil, muck, clingage, sludge, bottoms, paraffin (wax), and any constituent component of oil. The term “oil cargo residue” is also known as “cargo oil residue.”

Oil residue means—

(1) Oil cargo residue; and

(2) Other residue of oil whether in solid, semi-solid, emulsified, or liquid form, resulting from drainages, leakages, exhausted oil, and other similar occurrences from machinery spaces.

Oily mixture means a mixture, in any form, with any oil content. “Oily mixture” includes, but is not limited to—

(1) Slops from bilges;

(2) Slops from oil cargoes (such as cargo tank washings, oily waste, and oily refuse);

(3) Oil residue; and

(4) Oily ballast water from cargo or fuel oil tanks, including any oil cargo residue.

* * * * *

Petroleum oil means petroleum in any form including, but not limited to, crude oil, fuel oil, sludge, oil residue, and refined products.

* * * * *

§ 157.04 [Amended]

26. In § 157.04(b), remove the words “MARPOL Protocol” and add, in their place, the words “MARPOL 73/78”.

§ 157.07 [Amended]

27. In § 157.07, remove the words “MARPOL Protocol” and add, in their place, the words “MARPOL 73/78”.

§ 157.11 [Amended]

28. In § 157.11(a), remove the words “cargo residues and other”.

§ 157.12 [Amended]

29. In § 157.12(b)(2), remove the words “MARPOL Protocol” and add, in their place, the words “MARPOL 73/78”.

30. Revise § 157.15(b) introductory text to read as follows:

§ 157.15 Slop tanks in tank vessels.

* * * * *

(b) Capacity. Slop tanks must have the total capacity to retain oily mixtures from cargo tank washings, oil residue, and ballast water containing an oily mixture of 3 percent or more of the oil carrying capacity. Two percent capacity is allowed if there are—

* * * * *

§ 157.17 [Amended]

31. In § 157.17—

a. In the section heading and in paragraphs (b) and (c), remove the words “oily residue” and add, in their place, the words “oil residue (sludge)”; and

b. In paragraph (a), remove the words “oily residue” and add, in their place, the words “oil residue”.

32. Add § 157.22 to read as follows:

§ 157.22 Intact stability requirements.

All tank ships of 5,000 DWT and above contracted after [Insert the effective date of this rulemaking] must comply with the intact stability requirements of Regulation 25A, Annex I MARPOL 73/78.

§ 157.24 [Amended]

33. In § 157.24(c)(2), remove the words “MARPOL Protocol” and add, in their place, the words “MARPOL 73/78”.

§ 157.24a [Amended]

34. In § 157.24a(b)(2), remove the words “MARPOL Protocol” and add, in their place, the words “MARPOL 73/78”.

§ 157.33 [Amended]

35. In § 157.33, remove the words “oil fuel” and add, in their place, the words “fuel oil”.

36. In § 157.37—

a. In paragraph (a)(3), remove the number “60” and add, in its place, the number “30”;

b. In paragraph (a)(7), remove the words “MARPOL Protocol” and add, in their place, the words “MARPOL 73/78”;

c. In paragraph (b), remove the word “residues” and add, in its place, the words “oil cargo residues”; and

d. Revise the section heading and paragraph (e) introductory text to read as follows:

§ 157.37 Discharge of oily mixtures from oil cargoes.

* * * * *

(e) Ballast water containing an oily mixture may be discharged below the waterline at sea by gravity if—

* * * * *

§ 157.39 [Amended]

37. In § 157.39—

a. In paragraph (a) and the introductory text of paragraph (b), remove the words “oil cargo mixture” and add, in their place, the words “oil cargo residue”;

b. Remove paragraph (b)(1);

c. Redesignate paragraphs (b)(2), (b)(3), and (b)(4) as paragraphs (b)(1), (b)(2), and (b)(3), respectively;

d. In newly designated paragraph (b)(2), remove the number “100” and add, in its place, the number “15”.

§ 157.43 [Amended]

38. In § 157.43(b) introductory text, remove the words “oil mixture” and add, in their place, the words “oily mixture”.

§ 157.118 [Amended]

39. In § 157.118(a) (1)(ii) and (a)(2)(i), remove the words “MARPOL Protocol” and add, in their place, the words “MARPOL 73/78”.

§ 157.138 [Amended]

40. In § 157.138(a)(1), remove the words “MARPOL Protocol” and add, in their place, the words “MARPOL 73/78”.

§ 157.140 [Amended]

41. In § 157.140(a)(1), remove the words “oil clingage or deposits of oil, or both” and add, in their place, the words “oil residues”.

§ 157.160 [Amended]

42. In § 157.160 (a)(2) and (b)(3), remove the word “sludge” and add, in its place, the words “oil cargo residue”.

§ 157.216 [Amended]

43. In § 157.216 (a)(1)(ii) and (a)(2)(i), remove the words “MARPOL Protocol” and add, in their place, the words “MARPOL 73/78”.

§ 157.224 [Amended]

44. In § 157.224(a), remove the words “MARPOL Protocol” and add, in their place, the words “MARPOL 73/78”.

§ 157.302 [Amended]

45. In § 157.302, paragraphs (b)(3) and (b)(6), remove the words “cargo residues” and add, in their place, the words “oil cargo residues”.

§ 157.304 [Amended]

46. In § 157.304(a), remove the words “cargo residues” and add, in their place, the words “oil cargo residues”.

§ 157.310 [Amended]

47. In § 157.310(c), remove the words “cargo residues” and add, in their place, the words “oil cargo residues”.

§ 157.400 [Amended]

48. In § 157.400(b)(2), remove the words “cargo residue” and add, in their place, the words “oil cargo residue”.

49. In part 157, appendix B, add paragraph 3(f) to read as follows:

Appendix B—Subdivision and Stability Assumptions

* * * * *

3. * * *

(f) For oil tankers of 20,000 tons deadweight and above, the damage assumptions must be supplemented by the following assumed bottom raking damage:

(1) Longitudinal extent:

(i) For ships of 75,000 tons deadweight and above, 0.6L measured from the forward perpendicular.

(ii) For ships of less than 75,000 tons deadweight, 0.4L measured from the forward perpendicular.

(2) Transverse extent: B/3 anywhere in the bottom.

(3) Vertical extent: Breach of the outer hull.

* * * * *

Appendix D—[Amended]

50. In part 157, appendix D, paragraph 2(a)(1), remove the word “slop” and add, in its place, the words “oily mixtures”.

PART 158—RECEPTION FACILITIES FOR OIL, NOXIOUS LIQUID SUBSTANCES, AND GARBAGE

51. The authority citation for part 158 continues to read as follows:

Authority: 33 U.S.C. 1903(b); 49 CFR 1.46.

§ 158.100 [Amended]

52. In § 158.100(b)(1), remove the words “Residues and mixtures containing oil” and add, in their place, the words “Oily mixtures”.

§ 158.110 [Amended]

53. In § 158.110(a)(1), remove the words “residues and mixtures containing oil” and add, in their place, the words “oily mixtures”.

54. In § 158.120—

a. Revise the section heading;

b. Remove the definition of “MARPOL Protocol”;

c. Revise the definition of “oil”;

d. In the definition of “reception facility”, remove the words “residues and mixtures containing oil” and add, in their place, the words “oily mixtures”; and

e. Add, in alphabetical order, the definitions of the terms “MARPOL 73/78”, “oil cargo residue”, “oil residue”, and “oily mixtures” to read as follows:

§ 158.120 Definitions.

* * * * *

MARPOL 73/78 means the International Convention for the Prevention of Pollution from Ships, 1973, as modified by the Protocol of 1978 relating to that Convention. A copy of MARPOL 73/78 is available from the International Maritime Organization, 4 Albert Embankment, London, SE1 7SR, England.

* * * * *

Oil means petroleum whether in solid, semi-solid, emulsified, or liquid form, including but not limited to, crude oil, fuel oil, sludge, oil refuse, oil residue, and refined products, and, without limiting the generality of the foregoing, includes the substances listed in Appendix I of Annex I of MARPOL 73/78. “Oil” does not include animal and vegetable based oil or noxious liquid substances (NLS) designated under Annex II of MARPOL 73/78.

Oil cargo residue means any residue of oil cargo whether in solid, semi-solid, emulsified, or liquid form from cargo tanks and cargo pump room bilges, including but not limited to, drainages, leakages, exhausted oil, muck, clingage, sludge, bottoms, paraffin (wax), and any constituent component of oil. The term “oil cargo residue” is also known as “cargo oil residue.”

Oil residue means—

(1) Oil cargo residue; and

(2) Other residue of oil resulting from drainages, leakages, exhausted oil, and other similar occurrences from machinery spaces.

Oily mixture means a mixture, in any form, with any oil content. “Oily mixture” includes, but is not limited to—

(1) Slops from bilges;

(2) Slops from oil cargoes (such as cargo tank washings, oily waste, and oily refuse);

(3) Oil residue; and

(4) Oily ballast water from cargo or fuel oil tanks.

* * * * *

§ 158.133 [Amended]

55. In § 158.133(a), remove the words “residues and mixtures containing oil” and add, in their place, the words “oily mixtures”.

§ 158.135 [Amended]

56. In § 158.135(a), remove the words “residues and mixtures containing oil” and add, in their place, the words “oily mixtures”.

Subpart B—[Amended]

57. Revise the heading of subpart B to read as follows:

Subpart B—Criteria for Reception Facilities: Oily Mixtures

§ 158.200 [Amended]

58. In § 158.200(a)(2), (a)(3)(i), (a)(3)(iii), and (b), remove the words “residues and mixtures containing oil” and add, in their place, the words “oily mixtures”; and, in (a)(3)(ii), remove the words “oily ballast” and add, in their place, the words “ballast water containing oily mixtures”.

§ 158.210 [Amended]

59. In § 158.210—

a. In paragraph (a), remove the word “Sludge” and add, in its place, the words “Oil residue”;

b. In paragraph (b), remove the words “Oily bilge water” and add, in their place, the words “Bilge water containing oily mixtures”; and

c. In paragraph (c), remove the words “Oily ballast” and add, in their place, the words “Ballast water containing oily mixtures”.

§ 158.220 [Amended]

60. In § 158.220—

a. In paragraph (a), remove the word “Sludge” and add, in its place, the words “Oil residue”;

b. In paragraph (b), remove the words “Oily bilge water” and add, in their place, the words “Bilge water containing oily mixtures”;

c. In paragraph (c), remove the words “Oily ballast” and add, in their place, the words “Ballast water containing oily mixtures”; and

d. In paragraph (d), remove the words “Cargo residue” and add, in their place, the words “Oil cargo residue”.

§ 158.230 [Amended]

61. In § 158.230—

a. In paragraph (a), remove the word “Sludge” and add, in its place, the words “Oil residue”; and

b. In paragraph (b), remove the words “Oily bilge water” and add, in their place, the words “Bilge water containing oily mixtures”.

62. In § 158.240, revise paragraphs (a) and (b) and the introductory text to paragraphs (c) and (d) to read as follows:

§ 158.240 Ship repair yards.

* * * * *

(a) An amount of ballast from bunker tanks, and the wash water and oil residue from the cleaning of bunker tanks and oil residue (sludge) tanks, equal to 8% of the bunker capacity of the largest oceangoing ship serviced;

(b) An amount of solid oil cargo residues from cargo tanks equal to 0.1% of the deadweight tonnage of the largest oceangoing tanker serviced;

(c) An amount of ballast water containing oily mixtures and wash water from in-port tank washing equal to—

* * * * *

(d) An amount of liquid oil cargo residue based on the following percentages of deadweight tonnage of the largest oceangoing tanker serviced:

* * * * *

§ 158.250 [Amended]

63. In § 158.250, remove the words “oily bilge water” wherever they appear and add, in their place, the words “bilge water containing oily mixtures”.

64. Add § 158.415 to read as follows:

§ 158.415 Placards for waste reception facilities.

(a) A person in charge of a port or terminal must post one or more placards in prominent locations and in sufficient numbers so that port and terminal users can read them. The locations of placards may include entranceways, site of reception facility, and along the pier or wharf. If the Captain of the Port determines that the number or location of the placards is insufficient, he or she may require additional placards and specify their locations.

(b) The placard must include at least the following words:

(1) “Waste Reception Facility—which receives (Insert type of waste) under the requirements of Code of Federal Regulations Title 33, Part 158. Please report any reception facility inadequacy to the local U.S. Coast Guard Captain of the Port at (Insert the local Captain of Port's phone number).”

(2) In paragraph (b)(1) of this section, the words “Waste Reception Facility” must appear in at least 1 inch letters and all other words in this paragraph must appear in at least ½ inch letters.

(3) Each placard must be at least 12 inches high and 11 inches wide and made of durable material.

46 CFR PART 172—SPECIAL RULES PERTAINING TO BULK CARGOES

65. The authority citation for part 172 continues to read as follows:

Authority: 46 U.S.C 3306, 3703, 5115; E.O. 12234, 45 FR 58801, 3 CFR, 1980 Comp., p. 277; 49 CFR 1.46.

66. Add § 172.048 to read as follows:

§ 172.048 Definitions.

As used in this subpart—

MARPOL 73/38 means the International Convention for the Prevention of Pollution from Ships, 1973, as modified by the Protocol of 1978 relating to that Convention. A copy of MARPOL 73/78 is available from the International Maritime Organization, 4 Albert Embankment, London, SE1 7SR, England.

67. In § 172.065, in table 172.065(a), at the end of the table before note 1, add a new entry to read as follows:

§ 172.065 Damage stability.

* * * * *

Table 172.065(a)—Extent of Damage
* * * * * * *
GROUNDING PENETRATION FOR RAKING DAMAGE | For tank vessels of 20,000 tons deadweight and above, the following assumed bottom raking damage must supplement the damage assumptions:
Longitudinal extent | For vessels of 75,000 tons deadweight and above, 0.6L measured from the forward perpendicular.
| For vessels of less than 75,000 tons deadweight, 0.4L measured from the forward perpendicular.
Transverse extent.... | B/3 anywhere in the bottom.
Vertical extent...... | Breach of the outer hull.
* * * * * * *

68. Add § 172.070 to Subpart D to read as follows:

§ 172.070 Intact stability.

All tank vessels of 5,000 DWT and above contracted after the effective date of this rulemaking must comply with the intact stability requirements of Regulation 25A, Annex I of MARPOL 73/78.

Dated: July 14, 2000.
R.C. North,
Assistant Commandant for Marine Safety and Environmental Safety Protection.

[FR Doc. 00-19219 Filed 8-7-00; 8:45 am]

BILLING CODE 4910-15-P